DEPARTMENT OF THE TREASURY

Office of Foreign Assets Control

Sanctions Actions Pursuant to Executive Orders 13224

AGENCY: Office of Foreign Assets Control, Treasury.

ACTION: Notice.

SUMMARY: The Treasury Department's Office of Foreign Assets Control (OFAC) is publishing the names of fifteen individuals whose property and interests in property are blocked pursuant to Executive Order 13224 of September 23, 2001, “Blocking Property and Prohibiting Transactions With Persons Who Commit, Threaten To Commit, or Support Terrorism.”

DATES: OFAC's actions described in this notice are effective on September 29, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Actions

On September 29, 2015, OFAC blocked the property and interests in property of the following fifteen individuals pursuant to E.O. 13224, “Blocking Property and Prohibiting Transactions With Persons Who Commit, Threaten To Commit, or Support Terrorism”:

1. AL-SHA'IRI, Husayn Al-Salihin Salih (a.k.a. AL-SHA'ARI, Hasan al-Salahayn Salih; a.k.a. “ABU-HABIB, Hasan”; a.k.a. “AL-LIBI, Abu-Habib”; a.k.a. “AL-SALIHIN, Habib”); DOB 01 Jan 1975 to 31 Dec 1975; POB Darna, Libya; citizen Libya; Passport 542858 (Libya); Personal ID Card 55252 (Libya) (individual) [SDGT].

2. IKANOVIC, Bajro; DOB 08 Nov 1976; POB Hrncici, Bratunac, Bosnia and Herzegovina; citizen Bosnia and Herzegovina; National ID No. JMB 0811976181415 (Bosnia and Herzegovina) (individual) [SDGT].

3. AL-RUMAYSH, Mu'tassim Yahya 'Ali (a.k.a. “ABU-RAYHANAH”; a.k.a. “AL-JEDDAWI, Abu-Rayhanah al-'Ansari”; a.k.a. “HANDALAH”; a.k.a. “RAYHANAH”); DOB 04 Jan 1973; POB Jeddah, Saudi Arabia; citizen Yemen; Passport 01055336 (Yemen); Residency Number 2054275397 (Saudi Arabia) issued 22 Jul 1998 (individual) [SDGT].

4. AL-HARBI, Nasir Muhammad 'Awad al-Ghidani (a.k.a. AL-HARBI, Nasir Muhammad 'Iwad al-Ghaydani; a.k.a. “AL-GHAYDANI, Abu-Bilal”; a.k.a. “AL-HARBI, Abu-Bilal”; a.k.a. “AL-NAJDI, Hammam”; a.k.a. “AL-RAS, Ra'i”; a.k.a. “BILAL”), Yemen; DOB 20 Jul 1974; alt. DOB 05 Sep 1974; POB al-Qasim, Saudi Arabia; citizen Saudi Arabia (individual) [SDGT].

5. AL-KARMUSH, Muwaffaq Mustafa Muhammad (a.k.a. AL KASAB, Muwafaq Mustafa Muhammad Ali; a.k.a. AL-KARMOUSH, Muafaq Mustafa Mohammed; a.k.a. AL-KARMUSH, Muwafaq Mustafa; a.k.a. AL-KARMUSH, Muwafaq Mustafa Muhammad 'Ali; a.k.a. AL-KARMUSH, Muwaffaq Mustafa; a.k.a. AL-KARMUSH, Muwaffaq Mustafa Muhammad 'Ali Mahmud; a.k.a. EL KHARMOUSH, Muwaffaq Mustafa Mohammad; a.k.a. KARMOOSH, Muwafaq Mustafa Mohammed Ali; a.k.a. KARMUSH, Muwaffaq; a.k.a. MUHAMMAD, Muwaffaq Mustafa; a.k.a. “Abu Salah”; a.k.a. “AL-'AFRI, Abu Salah”); DOB 01 Feb 1973; citizen Iraq; Gender Male; Passport A5476394 (Iraq) (individual) [SDGT].

6. HELAL, Mounir Ben Dhaou Ben Brahim Ben (a.k.a. HELEL, Mounir; a.k.a. HILEL, Mounir; a.k.a. “AL-TUNISI, Abu Maryam”; a.k.a. “IBRAHIM, Munir Bin Du Bin”; a.k.a. “RAHMAH, Abu”); DOB 10 May 1983; POB Ben Guerdane, Tunisia; Gender Male (individual) [SDGT].

7. FEBRIWANSYAH, Tuah (a.k.a. FACHRI, Muhammad; a.k.a. FACHRIA, Muhammad; a.k.a. FACHRY, Muhammad; a.k.a. FEBRIWANSAH, Tuwah; a.k.a. FEBRIWANSYAH BIN ARIF HASRUDIN, Tuah), Jalan Baru LUK, No. 1 RT 05/07, Kelurahan Bhakti Jaya, Setu Sub-District, Pamulang District, Tangerang Selatan, Banten Province, Indonesia; DOB 18 Feb 1968; POB Jakarta, Indonesia; nationality Indonesia; National ID No. 09.5004.180268.0074 (Indonesia) (individual) [SDGT].

8. IBRAHIM, Muhammad Sholeh (a.k.a. IBRAHIM, Mohammad Sholeh; a.k.a. IBRAHIM, Muh Sholeh; a.k.a. IBRAHIM, Muhammad Soleh; a.k.a. IBRAHIM, Sholeh; a.k.a. IBROHIM, Muhammad Sholeh); DOB Sep 1958; POB Demak, Indonesia; nationality Indonesia; Ustad (individual) [SDGT].

9. ALJARBA, Tarad Mohammad (a.k.a. ALJARBA, Tarad; a.k.a. “AL-SHIMALI, Abu-Muhammad”); DOB 20 Nov 1979; POB Iraq; nationality Saudi Arabia; Passport E704088 (Saudi Arabia) issued 26 Aug 2003 expires 02 Jul 2008 (individual) [SDGT].

10. MAHMOOD, Aqsa (a.k.a. LAYTH, Umm), Raqqa, Syria; DOB 11 May 1994; POB Glasgow, UK; nationality United Kingdom; alt. nationality Pakistan; Passport 720134834 (United Kingdom) issued 27 Jun 2012 expires 27 Jun 2022; National ID No. 3520162676986 (Pakistan) (individual) [SDGT].

11. HUSSAIN, Omar (a.k.a. “AL-BRITANI, Abu Sa'eed”), High Wycombe, Buckinghamshire, United Kingdom; DOB 01 Jan 1986 to 31 Dec 1987; nationality United Kingdom; (individual) [SDGT].

12. KHAN, Hafiz Saeed (a.k.a. AHMAD, Sayed; a.k.a. HAFIZ, Said Khan; a.k.a. KHAN, Hafez Sayed; a.k.a. KHAN, Hafiz Sa'id; a.k.a. KHAN, Hafiz Said; a.k.a. KHAN, Hafiz Said Muhammad; a.k.a. KHAN, Shaykh Hafidh Sa'id; a.k.a. KHAN, Wali Hafiz Sayid; a.k.a. SAEED, Hafiz; a.k.a. SA'ID, Hafiz); DOB 01 Jan 1976 to 31 Dec 1978; alt. DOB 01 Jan 1977 to 31 Dec 1979; POB Mamondzowi Village, Orakzai Agency, Pakistan; nationality Pakistan (individual) [SDGT].

13. AL-SHAWAKH, Ali Musa (a.k.a. AL-'AUJAYD, Abdullah Shuwar; a.k.a. AL-HAMUD, 'Ali; a.k.a. AL-SHAWAGH, 'Ali Musa; a.k.a. AL-SHAWAKH, Ali al-Hamoud; a.k.a. AL-SHAWAKH, Muhammad 'Ali; a.k.a. AL-SHAWWAKH, Ibrahim; a.k.a. AWAS, Ali; a.k.a. DERWISH, 'Ali; a.k.a. HAMMUD, Ali; a.k.a. “AL-SAHL, Abu Luqman”; a.k.a. “AL-SURI, Abu Luqman”; a.k.a. “AYYUB, Abu”; a.k.a. “LUQMAN, Abu”); DOB 01 Jan 1973 to 31 Dec 1973; POB Sahl village, Raqqa province, Syria; nationality Syria (individual) [SDGT].

14. LAABOUDI, Morad (a.k.a. LAABOUDI, Mourad; a.k.a. “ABU ISMAIL”; a.k.a. “AL-MAGHRIBI, Abu Ismail”; a.k.a. “AL-MAGRABI, Abu Isma'il”); DOB 26 Feb 1993; citizen Morocco; Passport UZ6430184 (Morocco); National ID No. CD595054 (Morocco) (individual) [SDGT].

15. AL-JABURI, Sami Jasim Muhammad (a.k.a. AL-'AJUZ, Sami Jasim; a.k.a. AL-'AJUZ, Sami Jasim Muhammad; a.k.a. A'RAJ, Sami; a.k.a. MUHAMMAD, Sami Jasim; a.k.a. “ASIA, Abu”; a.k.a. “ASIYA, Abu”; a.k.a. “HAMAD, Hajji”; a.k.a. “HAMID, Hajji”; a.k.a. “HAMID, Ustadh”; a.k.a. “SAMIYAH, Abu”; a.k.a. “SUMAYYAH, Abu”); DOB 01 Jan 1973 to 31 Dec 1973; alt. DOB 01 Jan 1970 to 31 Dec 1970; POB Al-Sharqat, Salah ad-Din Province, Iraq; alt. POB Mosul, Iraq; nationality Iraq (individual) [SDGT].

Dated: September 29, 2015.
John E. Smith,
Acting Director, Office of Foreign Assets Control.

[FR Doc. 2015-25070 Filed 10-1-15; 8:45 am]

BILLING CODE 4810-AL-P